DEPARTMENT OF THE INTERIOR

Fish and Wildlife Service

[FWS-HQ-IA-2017-N137; FXIA16720900020-167-FF09A2000; OMB Control Number 1018-0123]

Agency Information Collection Activities; Submission to the Office of Management and Budget for Review and Approval; International Conservation Grant Programs

AGENCY: Fish and Wildlife Service, Interior.

ACTION: Notice of information collection; request for comment.

SUMMARY: In accordance with the Paperwork Reduction Act of 1995, we, the U.S. Fish and Wildlife Service, are proposing to revise an existing information collection.

DATES: Interested persons are invited to submit comments on or before November 1, 2017.

ADDRESSES: Send written comments on this information collection request (ICR) to the Office of Management and Budget's Desk Officer for the Department of the Interior by email at OIRA_Submission@omb.eop.gov; or via facsimile to (202) 395-5806. Please provide a copy of your comments to the Service Information Collection Clearance Officer, U.S. Fish and Wildlife Service, MS: BPHC, 5275 Leesburg Pike, Falls Church, VA 22041-3803 (mail); or by email to Info_Coll@fws.gov. Please reference OMB Control Number 1018-0123 in the subject line of your comments.

FOR FURTHER INFORMATION CONTACT: To request additional information about this ICR, contact Madonna L. Baucum, Service Information Collection Clearance Officer, by email at Info_Coll@fws.gov, or by telephone at (703) 358-2503. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on June 27, 2017 (82 FR 29093). No comments were received in response to that notice.

We are again soliciting comments on the proposed ICR that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Some of the world's most treasured and exotic animals are dangerously close to extinction. Destruction of natural habitat, illegal poaching, and pet-trade smuggling are devastating populations of tigers, rhinos, marine turtles, great apes, elephants, and many other highly cherished species. The Division of International Conservation and Division of Scientific Authority administer competitive grant programs funded under the following authorities:

• African Elephant Conservation Act (16 U.S.C. 4201-4245).

• Asian Elephant Conservation Act of 1997 (16 U.S.C. 4261).

• Great Apes Conservation Act of 2000 (16 U.S.C. 85).

• Rhinoceros and Tiger Conservation Act of 1994 (16 U.S.C. 5306).

• Marine Turtle Conservation Act (16 U.S.C. 82).

• Endangered Species Act (16 U.S.C. 1531 et seq.) (Wildlife Without Borders Programs—Africa, Mexico, Latin America and the Caribbean, Russia, Critically Endangered Species, Combatting Wildlife Trafficking, and Amphibians in Decline).

Applicants submit proposals for funding in response to Notices of Funding Opportunity published by the Service on Grants.gov. We collect the following information:

• Project summary and narrative.

• Letter of appropriate government endorsement.

• Brief curricula vitae for key project personnel.

• Complete Standard Forms 424 and 424b (nondomestic applicants do not submit the standard forms).

Proposals may also include, as appropriate, a copy of the organization's Negotiated Indirect Cost Rate Agreement (NICRA) and any additional documentation supporting the proposed project.

The project summary and narrative are the basis for this information collection. A panel of technical experts reviews each proposal to assess how well the project addresses the priorities identified by each program's authorizing legislation and the associated project costs. As all of the on-the-ground projects are conducted outside the United States, the letter of appropriate government endorsement ensures that the proposed activities will be supportive of locally identified priorities and needs. Brief curricula vitae for key project personnel allow the review panel to assess the qualifications of project staff to effectively carry out the project goals and objectives. As all Federal entities must honor the indirect cost rates an organization has negotiated with its cognizant agency, we require all organizations with a NICRA to submit the agreement paperwork with their proposals to verify how their rate is applied in their proposed budget.

All assistance awards under these grant programs have a maximum reporting requirement of:

• An interim report (performance report and a financial status report) as appropriate, and

• A final report (performance and financial status report and copies of all deliverables, photographic documentation of the project and products resulting from the project) due within 90 days of the end of the performance period.

In accordance with DOI/FWS Policy, FWS Form 3-2338, “International Conservation Programs Cover Page) has expired and been replaced by the Standard Form 424 for all applicants to all of our programs. Accordingly, this collection is being revised to remove FWS Form 3-2338 which is no longer used.

Title of Collection: International Conservation Grant Programs.

OMB Control Number: 1018-0123.

Form Number: None.

Type of Review: Revision of a currently approved collection.

Respondents/Affected Public: Domestic and nondomestic individuals; nonprofit organizations; educational institutions; private sector entities; and State, local, and tribal governments.

Total Estimated Number of Annual Respondents: 744.

Total Estimated Number of Annual Responses: 1,272.

Estimated Completion Time per Response: 22 hours for grant applications and 40 hours for grant reporting.

Total Estimated Number of Annual Burden Hours: 38,856.

Respondent's Obligation: Required to Obtain or Retain a Benefit.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Dated: September 27, 2017.
Madonna L. Baucum,
Information Collection Clearance Officer, U.S. Fish and Wildlife Service.

[FR Doc. 2017-21038 Filed 9-29-17; 8:45 am]

BILLING CODE 4333-15-P